DEPARTMENT OF ENERGY

Federal Energy Regulatory Commission

[Docket No. CP06-85-000]

Centerpoint Energy Gas Transmission Company; Notice of Availability of the Draft Environmental Impact Statement for the Proposed Carthage to Perryville Project

May 26, 2006.

The staff of the Federal Energy Regulatory Commission (FERC or Commission) has prepared this Draft Environmental Impact Statement (EIS) for the natural gas pipeline facilities proposed by CenterPoint Energy Gas Transmission (CEGT) under the above-referenced docket. CEGT's Carthage to Perryville Project (Project) would be located in various counties and parishes in eastern Texas and northern Louisiana.

This Draft EIS was prepared to satisfy the requirements of the National Environmental Policy Act. The FERC staff concludes that the proposed Project, with the appropriate mitigation measures as recommended, would have limited adverse environmental impact.

The U.S. Fish and Wildlife Service (FWS) and the U.S. Army Corps of Engineers (COE) are Federal cooperating agencies for the development of this EIS. A Federal cooperating agency has jurisdiction by law or special expertise with respect to any environmental impact involved with the proposal and is involved in the NEPA analysis.

The general purpose of the proposed Project is to facilitate the transport of up to 1.2 billion cubic feet per day of natural gas received from production areas in eastern Texas, as well as northern Louisiana, to markets in the Midwest and Northeastern regions of the United States that can be accessed through interconnects with existing pipeline infrastructure.

The Draft EIS addresses the potential environmental effects of construction and operation of the following facilities:

• About 171.9 miles of 42-inch-diameter natural gas pipeline in Panola County, Texas, and Caddo, DeSoto, Red River, Bienville, Jackson, Ouachita, and Richland Parishes, Louisiana;

• Two new, 20,620 horsepower (hp) gas-turbine-driven compressor stations, the Panola and Vernon Compressor Stations, located in Panola County, Texas, and Jackson Parish, Louisiana, respectively;

• Two meter and regulator stations at receipt points with three intrastate pipelines, including:

—Houston Pipe Line (HPL) Meter/Regulator (M/R) Station in Panola County, Texas;

—Duke Energy Field Services-Enbridge M/R Station in Panola County, Texas;

• Four new meter and regulator stations at interconnects with existing interstate pipelines, including:

—Texas Gas M/R Station in Ouachita Parish, Louisiana;

—ANR M/R Station in Richland Parish, Louisiana;

—Trunkline M/R Station in Richland Parish, Louisiana;

—Columbia Gulf M/R Station in Richland Parish, Louisiana;

• 11 mainline valves; and

• Four pig launcher/receiver facilities associated with the Panola and Vernon Compressor Stations and the HPL and Columbia Gulf M/R Stations.

CEGT proposes to construct its pipeline facilities in two phases. Construction of Phase I would be initiated in October 2006 and completed by February 2007, at which point CEGT would place the proposed Project in-service. Under Phase I, a single, 10,310-hp turbine compressor would be installed at each compressor station. Under Phase II, a second compressor would be installed to bring the total installed compression at each facility to 20,620 hp. CEGT indicates that Phase II facilities would be installed and operational by October 2008.

Comment Procedures and Public Meetings

Any person wishing to comment on the Draft EIS may do so. To ensure that your comments are timely and properly recorded so that they may be considered in the Final EIS, please carefully follow these instructions:

• Send an original and two copies of your comments to: Magalie R. Salas, Secretary, Federal Energy Regulatory Commission, 888 First Street, NE., Room 1A, Washington, DC 20426.

• Label one copy of your comments for the attention of Gas Branch 3, DG2E;

• Reference Docket No. CP06-85-000 on the original and both copies; and

• Mail your comments so that they will be received in Washington, DC on or before July 17, 2006.

To expedite the FERC's receipt and consideration of your comments, electronic submission of comments is strongly encouraged by the Commission. For information on electronically filing comments, please see the instructions on the Commission's Web site at http://www.ferc.gov under the “e-Filing” link and the link to the User's Guide, as well as information in 18 CFR 385.2001(a)(1)(iii). Before you can submit comments you will need to create a free account, which can be created on-line by clicking on “Sign-up” under “New User.” You will also be asked to select the type of filing you are making. This filing is consisdered a “Comment on Filing.”

In lieu of or in addition to sending written comments, we invite you to attend the public comment meetings the FERC will conduct in the project area to receive comments on the Draft EIS. The public comment meetings on the Draft EIS for the Carthage to Perryville Project will be conducted jointly with the public scoping meetings for the East Texas Expansion Project (FERC Docket No. PF06-17-000), which we are currently evaluating under our Pre-Filing Process. All meetings will begin at 7 p.m. (CDT), and are scheduled as follows:

Date and time | Location
Wednesday, June 21, 2006 | Quitman High School Auditorium, 181 Wolverine Drive, Quitman, LA 71268, Telephone: (318) 259-2698.
Thursday, June 22, 2006 | Delhi High School Auditorium, 413 Main Street, Delhi, LA 71232, Telephone: (318) 878-2235.

The public comment meetings will be posted on the FERC's calendar located at http://www.ferc.gov/EventCalendar/EventsList.aspx. Interested groups and individuals are encouraged to attend and present oral comments on the Draft EIS. Transcripts of the meetings will be prepared.

After the comments received are reviewed, any significant new issues are investigated, and modifications are made to the Draft EIS, a Final EIS will be published and distributed by the FERC staff. The Final EIS will contain the staff's responses to timely comments received on the Draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this Draft EIS. You must file your request to intervene as specified above.¹ You do not need intervenor status to have your comments considered.

¹ Interventions may also be filed electronically via the Internet in lieu of paper. See the previous discussion on filing comments electronically.

The Draft EIS has been placed in the public files of the FERC and is available for public inspection at: Federal Energy Regulatory Commission, Public Reference Room, 888 First Street N.E., Room 2A, Washington, DC 20426, (202) 502-8371.

A limited number of copies of the Draft EIS are available from the Public Reference Room identified above. In addition, CD copies of the Draft EIS have been mailed to affected landowners; various Federal, state, and local government agencies; elected officials; environmental and public interest groups; Native American tribes; local libraries and newspapers; intervenors; and other individuals that expressed an interest in the proposed Project. Hard-copies of the Draft EIS have also been mailed to those who requested that format during the scoping period for the proposed Project.

To reduce printing and mailing costs for the Final EIS, the FERC will be issuing that document in both CD and hard-copy formats. In a separate mailing, the parties on the current mailing list for the Draft EIS will be sent a postcard providing an opportunity to select the format of the Final EIS that they wish to receive. The FERC is strongly encouraging the use of the CD format in their publication of large documents.

Additional information about the project is available from the Commission's Office of External Affairs, at 1-866-208-FERC (3372) or on the FERC Internet Web site (http://www.ferc.gov). Using the “eLibrary link,” select “General Search” and enter the project docket number excluding the last three digits (i.e., CP06-85) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E6-8599 Filed 6-1-06; 8:45 am]

BILLING CODE 6717-01-P